DEPARTMENT OF AGRICULTURE

Forest Service

Deschutes Provincial Advisory Committee (DPAC)

AGENCY: Forest Service, Agriculture.

ACTION: Notice of meeting.

SUMMARY: The Deschutes Provincial Advisory Committee will meet on July 22, 2011 to conduct a field trip to review projects relevant to the goals and objectives of the committee. Members will meet at the Deschutes National Forest Supervisor's office, Upper Deschutes Conference Room (1001 SW Emkay Drive, Bend Oregon) at 9 a.m. The field trip will be from 9:30 a.m. until 2 p.m. All Deschutes Province Advisory Committee meetings are open to the public.

FOR FURTHER INFORMATION CONTACT: Michael Keown, Province Liaison, Sisters Ranger District, Pine Street and Highway 20, Sisters, Oregon 97759, Phone (541) 549-7735.

John Allen,
Deschutes National Forest Supervisor.

[FR Doc. 2011-19382 Filed 8-2-11; 8:45 am]

BILLING CODE 3410-11-M